DEPARTMENT OF THE INTERIOR

Geological Survey

[GX19LR000F60100; OMB Control Number 1028-0060]

Agency Information Collection Activities; Mine, Development, and Mineral Exploration Supplement

AGENCY: U.S. Geological Survey, Interior.

ACTION: Notice of information collection; request for comment.

SUMMARY: In accordance with the Paperwork Reduction Act of 1995, we, the U.S. Geological Survey (USGS) are proposing to renew an information collection.

DATES: Interested persons are invited to submit comments on or before July 8, 2019.

ADDRESSES: Send your comments on this information collection request (ICR) by mail to U.S. Geological Survey, Information Collections Officer, 12201 Sunrise Valley Drive, MS 159, Reston, VA 20192; or by email to gs-info_collections@usgs.gov. Please reference OMB Control Number 1028-0060 in the subject line of your comments.

FOR FURTHER INFORMATION CONTACT: To request additional information about this ICR, contact Shonta E. Osborne by email at sosborne@usgs.gov, or by telephone at 703-648-7960.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the USGS; (2) will this information be processed and used in a timely manner; (3) is the estimate of burden accurate; (4) how might the USGS enhance the quality, utility, and clarity of the information to be collected; and (5) how might the USGS minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The National Mining and Minerals Policy Act of 1970 and the National Materials and Minerals Policy, Research and Development Act of 1980 mandate that the Secretary of the Interior collect, evaluate, and analyze information concerning mineral occurrence, production, and use for the domestic mineral industry and to inform Congress of important domestic mining and minerals industries developments. These responsibilities are delegated to the U.S. Geological Survey and are carried out, in part, through this information collection.

Title of Collection: Mine, Development, and Mineral Exploration Supplement.

OMB Control Number: 1028-0060.

Form Number: Various.

Type of Review: Extension of a currently approved collection.

Respondents/Affected Public: Business or Other-For-Profit Institutions: U.S. nonfuel minerals and exploration operations.

Total Estimated Number of Annual Respondents: 324.

Total Estimated Number of Annual Responses: 324.

Estimated Completion Time per Response: 45 minutes.

Total Estimated Number of Annual Burden Hours: 243.

Respondent's Obligation: Voluntary.

Frequency of Collection: Annually.

Total Estimated Annual Nonhour Burden Cost: There are no “non-hour cost” burdens associated with this IC.

An agency may not conduct or sponsor and a person is not required to respond to a collection of information unless it displays a currently valid OMB control number.

The authorities for this action are the Paperwork Reduction Act of 1995 (44 U.S.C. 3501 et seq.), the National Materials and Minerals Policy, Research and Development Act of 1980 (30 U.S.C. 1601 et seq.), and the National Mining and Minerals Policy Act of 1970 (30 U.S.C. 21(a)).

Michael J. Magyar,
Associate Director, National Minerals Information Center.

[FR Doc. 2019-09344 Filed 5-6-19; 8:45 am]

BILLING CODE 4338-11-P